DEPARTMENT OF HOMELAND SECURITY

Coast Guard

33 CFR Part 117

[Docket No. USCG-2016-0978]

Drawbridge Operation Regulation; Pass Manchac, Manchac, LA

AGENCY: Coast Guard, DHS.

ACTION: Notice of deviation from drawbridge regulations.

SUMMARY: The Coast Guard has issued a temporary deviation from the operating schedule that governs the Canadian National (CN) Railroad automated bascule span drawbridge across Pass Manchac, mile 6.7 at Manchac, between St. John and Tangipahoa Parishes, Louisiana. The deviation is necessary to accommodate bridge repair work essential for the continued operation of the bridge. This deviation allows the bridge to remain closed-to-navigation for eight hours on three consecutive days, allowing vessels to pass with a one-hour advance notice.

DATES: This deviation is effective from November 15, 2016 through November 17, 2016 from 5 a.m. through 2 p.m.

ADDRESSES: The docket for this deviation, [USCG-2016-0978] is available at http://www.regulations.gov.

FOR FURTHER INFORMATION CONTACT: If you have questions on this temporary deviation, call or email Donna Gagliano, Bridge Administration Branch, Coast Guard, telephone (504) 671-2128, email Donna.Gagliano@uscg.mil.

SUPPLEMENTARY INFORMATION: CN Railroad, requested that a one-hour advance notice be given for the passage of vessels on the automated bascule span drawbridge across Pass Manchac, mile 6.7 at Manchac, between St. John and Tangipahoa Parishes, Louisiana. The deviation is necessary to replace the rail, fasteners, and lift joints on the bridge. This work is essential for the continued operation of the bridge.

In accordance with 33 CFR 117.484, the bridge is not tended and is therefore automated. These operations are described in 33 CFR 117.484. Currently, the bridge remains open until the passage of a train at which time it closes to allow the train to pass. This deviation will allow the bridge to remain closed to all marine traffic from 5 a.m. through 2 p.m. on Tuesday, November 15, 2016 through Thursday, November 17, 2016, without a one-hour advance notice.

The bridge will remain operational to vessels with a one-hour advanced notice. A tender will be on site to operate the bridge during the set work schedule and will be monitoring channel 16.

Navigation on the waterway consists of small tugs with and without tows, commercial vessels, and recreational craft, including sailboats. The Coast Guard will also inform the users of the waterways through our Local and Broadcast Notices to Mariners of the change in operating schedule for the bridge to minimize any impact caused by the temporary deviation. The bridge will be unable to open during these repairs and no alternate route is available.

In accordance with 33 CFR 117.35(e), the drawbridge must return to its regular operating schedule immediately at the end of the effective period of this temporary deviation. This deviation from the operating regulations is authorized under 33 CFR 117.35.

Dated: October 31, 2016.
David M. Frank,
Bridge Administrator, Eighth Coast Guard District.

[FR Doc. 2016-26597 Filed 11-2-16; 8:45 am]

BILLING CODE 9110-04-P